DEPARTMENT OF THE INTERIOR

National Park Service

[NPS-WASO-NAGPRA-14039; PPWOCRADN0-PCU00RP14.R50000]

Notice of Inventory Completion: University of Michigan, Ann Arbor, MI

AGENCY: National Park Service, Interior.

ACTION: Notice.

SUMMARY: The University of Michigan has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the University of Michigan. If no additional requestors come forward, transfer of control of the human remains to the Indian tribes or Native Hawaiian organizations stated in this notice may proceed.

DATES: Representatives of any Indian tribe or Native Hawaiian organization not identified in this notice that wish to request transfer of control of these human remains should submit a written request with information in support of the request to the University of Michigan at the address in this notice by December 2, 2013.

ADDRESSES: Dr. Ben Secunda, NAGPRA Project Manager, University of Michigan, Office of the Vice President for Research, 4080 Fleming Building, 503 Thompson St., Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains under the control of the University of Michigan, Ann Arbor, MI. The human remains were removed from Clinton, Gladwin, Gratiot Counties, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Michigan Museum of Anthropology professional staff in consultation with representatives of the Bay Mills Indian Community, Michigan; Chippewa-Cree Indians of the Rocky Boy's Reservation, Montana; Grand Traverse Band of Ottawa and Chippewa Indians, Michigan; Keweenaw Bay Indian Community, Michigan; Lac Vieux Desert Band of Lake Superior Chippewa Indians of Michigan; Saginaw Chippewa Indian Tribe of Michigan; and the Sault Ste. Marie Tribe of Chippewa Indians, Michigan.

Additional requests for consultation were sent to the Bad River Band of the Lake Superior Tribe of Chippewa Indians of the Bad River Reservation, Wisconsin; Bois Forte Band (Nett Lake) of the Minnesota Chippewa Tribe, Minnesota; Fond du Lac Band of the Minnesota Chippewa Tribe, Minnesota; Grand Portage Band of the Minnesota Chippewa Tribe, Minnesota; Lac Courte Oreilles Band of Lake Superior Chippewa Indians of Wisconsin; Lac du Flambeau Band of Lake Superior Chippewa Indians of the Lac du Flambeau Reservation of Wisconsin; Leech Lake Band of the Minnesota Chippewa Tribe, Minnesota; Mille Lacs Band of the Minnesota Chippewa Tribe, Minnesota; Red Cliff Band of Lake Superior Chippewa Indians of Wisconsin; Red Lake Band of Chippewa Indians, Minnesota; Sokaogon Chippewa Community, Wisconsin; St. Croix Chippewa Indians of Wisconsin; Turtle Mountain Band of Chippewa Indians of North Dakota; and the White Earth Band of the Minnesota Chippewa Tribe, Minnesota.

Hereafter, all tribes listed in this section are referred to as “The Tribes.”

History and Description of the Remains

In 1954, human remains representing, at minimum, 1 individual were removed from the GL-1997 site in Clinton County, MI. The Clinton County Sheriff's Department collected the remains of one adult male from a location in Essex Township, MI, and sent them to the University of Michigan Museum of Anthropology (UMMA) for identification. The human remains were identified as Native American and donated to the UMMA on October 16, 1954. No date or time period for the human remains could be established. No known individuals were identified. No associated funerary objects are present.

In 1951, human remains representing, at minimum, 1 individual were removed from the Virgil Olson site (20CL30) in Clinton County, MI. The remains of one adult were found during gravel pit operations on private land, and the Clinton County Sheriff's Department was contacted to investigate. The Sherriff's Department determined the human remains were Native American and donated them to the UMMA. No date or time period for the human remains could be established. No known individuals were identified. No associated funerary objects are present.

On an unknown date in the 1920s, human remains representing, at minimum, 1 individual were removed from the Gladwin site in Gladwin County, MI. The remains of an adult female were removed from a mound near Gladwin, MI, and donated to the UMMA. No date or time period for the human remains could be established. No known individuals were identified. No associated funerary objects are present.

On an unknown date prior to 1924, human remains representing, at minimum, 2 individuals were removed from the St. Louis site in Gratiot County, MI. The remains of one adult female and one juvenile were found in the UMMA's collections in 1924 with a note that reads “near St. Louis, Gratiot County.” No date or time period for the human remains could be established. No known individuals were identified. No associated funerary objects are present.

On an unknown date prior to 1925, human remains representing, at minimum, 2 individuals were removed from the Gramon Mound site (20GR5) in Gratiot County, MI. A local resident reportedly found the remains of eight individuals in a mound located near the Montcalm and Gratiot County line. Only one cranium and one mandible were donated to the UMMA. The remains are from two individuals. The cranium is from a middle-aged adult male and the mandible is from a younger adult male. The cranium has an irregular-cut hole on the left parietal made post-mortem, but the cut hole differs from the type of post-mortem cutting typically associated with the practice of plaque removal. It was reported that all of the crania found in the mound showed evidence of post-mortem drilling. The human remains date to the Late Woodland Period based on mortuary treatment. No known individuals were identified. No associated funerary objects are present.

Determinations Made by the University of Michigan Museum of Anthropology

Officials of the University of Michigan Museum of Anthropology have determined that:

• Pursuant to 25 U.S.C. 3001(9), the human remains described in this notice are Native American based on cranial morphology, dental traits, accession documentation, and archeological context.

• Pursuant to 25 U.S.C. 3001(9), the human remains described in this notice represent the physical remains of 7 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Saginaw Chippewa Indian Tribe of Michigan.

• Treaties, Acts of Congress, or Executive Orders, indicate that the land from which the Native American human remains were removed is the aboriginal land of The Tribes.

• Pursuant to 43 CFR 10.11(c)(1), the disposition of the human remains objects may be to The Tribes.

Additional Requestors and Disposition

Representatives of any Indian tribe or Native Hawaiian organization not identified in this notice that wish to request transfer of control of these human remains should submit a written request with information in support of the request to Dr. Ben Secunda, NAGPRA Project Manager, University of Michigan, Office of the Vice President for Research, 4080 Fleming Building, 503 Thompson St., Ann Arbor, MI 48109-1340, telephone (734) 647-9085, email bsecunda@umich.edu, by December 2, 2013. After that date, if no additional requestors have come forward, transfer of control of the human remains to The Tribes may proceed.

The University of Michigan is responsible for notifying The Tribes that this notice has been published.

Dated: September 16, 2013.
Sherry Hutt,
Manager, National NAGPRA Program.

[FR Doc. 2013-25986 Filed 10-30-13; 8:45 am]

BILLING CODE 4312-50-P